DEPARTMENT OF COMMERCE

International Trade Administration

[A-201-805]

Circular Welded Non-Alloy Steel Pipe From Mexico: Amended Final Results of Antidumping Duty Administrative Review

AGENCY: Import Administration, International Trade Administration, Department of Commerce.

ACTION: Notice of amended final results in the antidumping duty administrative review of circular welded non-alloy steel pipe from Mexico.

EFFECTIVE DATE: July 18, 2001.

FOR FURTHER INFORMATION CONTACT: John Drury or Helen Kramer, AD/CVD Enforcement Group III, Office 8, Import Administration, International Trade Administration, U.S. Department of Commerce, 14th Street and Constitution Avenue, N.W., Washington, DC 20230; telephone: (202) 482-0195 or (202) 482-0405, respectively.

Scope of the Review

The products covered by this order are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of these orders, except line pipe, oil country tubular goods, boiler tubing, mechanical tubing, pipe and tube hollows for redraws, finished scaffolding, and finished conduit. Standard pipe that is dual or triple certified/stenciled that enters the United States as line pipe of a kind used for oil or gas pipelines is also not included in this order.

Imports of the products covered by this order are currently classifiable under the following Harmonized Tariff Schedule (HTS) subheadings: 7306.30.10.00, 7306.30.50.25, 7306.30.50.32, 7306.30.50.40, 7306.30.50.55, 7306.30.50.85, and 7306.30.50.90. Although the HTS subheadings are provided for convenience and customs purposes, our written description of the scope of these proceedings is dispositive.

Amendment of Final Results

On April 30, 2001, the Department of Commerce (the Department) published the final results of its antidumping duty administrative review on circular welded non-alloy steel pipe from Mexico (66 FR 21311). This review covered one manufacturer/exporter of the subject merchandise, Tuberia Nacional S.A. de C.V. (“TUNA”). The period of review (“POR”) is November 1, 1998 through October 31, 1999.

On April 24, 2001, we received a submission from Allied Tube and Conduit Corporation and Wheatland Tube Company (collectively, “Petitioners”) alleging a clerical error in the final results of this antidumping duty administrative review. On April 23, we received a submission from TUNA alleging two clerical errors. Petitioners filed rebuttal comments on April 30, 2001. The clerical error allegation and rebuttal comments were filed in a timely fashion.

Comment 1: Petitioners state that the Department committed a coding error and inadvertently omitted some of the physical code characteristics in its model match instructions. By leaving some of the codes for various physical characteristics out of the model match hierarchy, petitioners believe that some sales observations reported by TUNA were not used for matching purposes. Petitioners urge that the Department place the proper physical code characteristics in the model match program.

Department's Position: After a review of petitioners' allegation, we agree with petitioners and have corrected our model match program. See Analysis Memorandum dated June XX, 2001 for the corrections.

Comment 2: Respondent TUNA claims that the Department made a clerical error in the calculation of the level of trade adjustment. Rather than increasing the prices for sales made at a different level of trade, TUNA asserts that the Department should have reduced these prices. TUNA states that the error is based on a misreading of the Pattern of Price Difference program run by the Department. TUNA urges that the Department change the programming language to correct this error.

Department's Position: We agree with respondent and have corrected the programming language in the margin calculation program. See Analysis Memorandum for the programming changes.

Comment 3: Respondent TUNA states that the Department made a clerical error with regard to matching sales and level of trade. According to TUNA, the Department matched sales in the United States to home market sales in an incorrect sequence. TUNA states that the Department's methodology first matched identical sales at the same level of trade, and then matched similar sales at the same level of trade. Only if matches were not found at the same level of trade did the methodology look for identical matches at the next level of trade. TUNA argues that the Department should match identical sales regardless of the level of trade before moving to similar matches.

Petitioners note that the question of segregation by level of trade prior to matching is a policy decision involving the Department's interpretation of the statute and regulations. Therefore, petitioners argue, the issue is not an “error in addition, subtraction, or other arithmetic function” under 19 CFR 351.224(f) and cannot be permitted as a clerical error change. With regard to the policy decision itself, petitioners state that while the Department is generally required to seek identical matches prior to using similar matches under 19 U.S.C. 1677(16), the Department does segregate sales before making comparisons. Petitioners cite to the Department's segregation of sales based on date of sale, and that the Department matches sales made within a contemporaneous month.

Department's Position: We agree with respondent that we made a clerical error in implementing our level of trade methodology; however, we disagree with respondent regarding the extent and nature of the error. In the Department's preliminary determination, we determined that EP sales in the United States all occurred at one level of trade. CEP sales, however, were determined to have occurred at a distinct level of trade. Consequently, we matched EP sales to identical or similar home market sales to the extent possible at the same level of trade. For CEP sales, we matched these to home market sales without distinguishing between home market levels of trade and granted a CEP offset. See Analysis Memorandum for the Preliminary Determination, November 29, 2000.

In the final determination, we determined that both EP and CEP sales in the United States were at the same level of trade. We also determined that there were two levels of trade in the home market, one of which was the same as the level of trade for both EP and CEP sales in the United States. Consequently, with regard to matching sales, we stated that “For sales to the United States, the Department attempted to match these sales to all home market sales which were assigned a level of trade of “1,” and granted a level of trade adjustment if any U.S. sales matched to the second level of trade. We derived the level of trade adjustment by running a pattern of price comparison for sales in the home market.” See Analysis Memorandum for the Final Determination, April 11, 2001 (page 4).

Our examination of the margin calculation program for the final determination indicates that the program did not follow the policy outlined in the Department's final determination analysis memorandum. While the Department correctly matched EP sales in the United States to identical or similar home market sales to the extent possible at the same level of trade, it continued the matching practice used in the preliminary determination and matched CEP sales in the United States to home market sales without distinguishing between the two home market levels of trade. The program should have accounted for CEP matches at different levels of trade, as stated in the final determination analysis memorandum.

19 CFR 351.224(f) states that a ministerial error is “an error in addition, subtraction, or other arithmetic function, clerical error resulting from inaccurate copying, duplication, or the like, and any other similar type of unintentional error which the Secretary considers ministerial.” The failure of the margin calculation program to carry out the Department's stated policy adopted in the final determination analysis memorandum is clearly an unintentional error. Therefore, we have corrected the margin calculation program so that both EP and CEP sales in the United States are compared to identical or similar home market sales to the extent possible at the same level of trade. See Analysis Memorandum for details of the programming changes.

Amended Final Results

As a result of our review and the correction of the ministerial errors described above, we have determined that the following margin exists:

Circular Welded Non-Alloy Steel Pipe
Producer/Manufacturer/Exporter | Weighted-average margin (in percent)
Tuberia Nacional | 2.92

The Department shall determine, and the U.S. Customs Service (“Customs”) shall assess, antidumping duties on all appropriate entries. In accordance with 19 CFR 351.212(b), we have calculated exporter/importer-specific assessment rates by dividing the total dumping margins calculated for the U.S. sales to the importer by the total entered value of these sales. This rate will be used for the assessment of antidumping duties on all entries of the subject merchandise by that importer during the POR. The Department's decision applies to all entries of subject merchandise produced and exported by TUNA, entered, or withdrawn from warehouse, for consumption on or after November 1, 1998 and on or before October 31, 1999.

Cash Deposit Requirements

The following deposit requirements will be effective upon publication of this notice of final results of administrative review for all shipments of circular welded non-alloy steel pipe entered, or withdrawn from warehouse, for consumption on or after the date of publication, as provided by section 751(a)(1) of the Act: (1) The cash deposit rate for TUNA will be the rate shown above; (2) for previously reviewed or investigated companies not listed above, the cash deposit rate will continue to be the company-specific rate published for the most recent period; (3) if the exporter is not a firm covered in this review, a prior review, or the original less-than-fair-value (“LTFV”) investigation, but the manufacturer is, the cash deposit rate will be the rate established for the most recent period for the manufacturer of the merchandise; and (4) if neither the exporter nor the manufacturer is a firm covered in these or any previous reviews conducted by the Department, the cash deposit rate will be the “all others” rate, which is 36.62 percent.

These deposit requirements shall remain in effect until publication of the final results of the next administrative review.

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanction. We are issuing and publishing this determination and notice in accordance with sections 751(a)(1) and 777(i) of the Act.

Dated: July 10, 2001.
Faryar Shirzad,
Assistant Secretary for Import Administration.

[FR Doc. 01-17973 Filed 7-17-01; 8:45 am]

BILLING CODE 3510-DS-P